DEPARTMENT OF TRANSPORTATION

Federal Aviation Administration

14 CFR Part 39

[Docket No. FAA-2021-1165; Project Identifier MCAI-2021-01414-R; Amendment 39-21893; AD 2022-01-05]

RIN 2120-AA64

Airworthiness Directives; Airbus Helicopters

AGENCY: Federal Aviation Administration (FAA), DOT.

ACTION: Final rule; request for comments.

SUMMARY: The FAA is superseding airworthiness directive (AD) 2021-24-06, which applied to certain Airbus Helicopters Model EC130T2 helicopters. AD 2021-24-06 required repetitive visual inspections of the rivets on the rear transmission shaft bearing support and of the local structure for cracking and missing, loose, or sheared rivets and accomplishment of applicable corrective actions. This AD retains those requirements and adds repetitive visual inspections of the rivet heads on the left-hand and right-hand sides of the rear transmission shaft bearing support, revises a corrective action, and adds a reporting requirement, as specified in a European Union Aviation Safety Agency (EASA) AD, which is incorporated by reference. This AD also revises the special flight permit limitation from AD 2021-24-06. This AD was prompted by an additional report of loose rivet heads on the outside face of the tail boom corner support. The FAA is issuing this AD to address the unsafe condition on these products.

DATES: This AD becomes effective January 14, 2022.

The Director of the Federal Register approved the incorporation by reference of a certain publication listed in this AD as of January 14, 2022.

The FAA must receive comments on this AD by February 14, 2022.

ADDRESSES: You may send comments, using the procedures found in 14 CFR 11.43 and 11.45, by any of the following methods:

• Federal eRulemaking Portal: Go to https://www.regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For EASA material incorporated by reference (IBR) in this final rule, contact EASA, Konrad-Adenauer-Ufer 3, 50668 Cologne, Germany; telephone +49 221 8999 000; email ADs@easa.europa.eu; Internet www.easa.europa.eu. You may find this IBR material on the EASA website at https://ad.easa.europa.eu. For Airbus Helicopters service information identified in this final rule, contact Airbus Helicopters, 2701 North Forum Drive, Grand Prairie, TX 75052; telephone (972) 641-0000 or (800) 232-0323; fax (972) 641-3775; or at https://www.airbus.com/helicopters/services/technical-support.html. You may view this material at the FAA, Office of the Regional Counsel, Southwest Region, 10101 Hillwood Pkwy., Room 6N-321, Fort Worth, TX 76177. For information on the availability of this material at the FAA, call (817) 222-5110. Service information that is IBRed is also available in the AD docket at https://www.regulations.gov by searching for and locating Docket No. FAA-2021-1165.

Examining the AD Docket

You may examine the AD docket at https://www.regulations.gov by searching for and locating Docket No. FAA-2021-1165; or in person at Docket Operations between 9 a.m. and 5 p.m., Monday through Friday, except Federal holidays. The AD docket contains this final rule, the EASA AD, any comments received, and other information. The street address for Docket Operations is listed above.

FOR FURTHER INFORMATION CONTACT: Andrea Jimenez, Aerospace Engineer, COS Program Management Section, Operational Safety Branch, Compliance & Airworthiness Division, FAA, 1600 Stewart Ave., Suite 410, Westbury, NY 11590; telephone (516) 228-7330; email andrea.jimenez@faa.gov.

SUPPLEMENTARY INFORMATION:

Background

The FAA issued AD 2021-24-06, Amendment 39-21827 (86 FR 66934, November 24, 2021) (AD 2021-24-06), for certain Airbus Helicopters Model EC130T2 helicopters. AD 2021-24-06 required repetitive visual inspections of the rivets on the rear transmission shaft bearing support and of the local structure for cracking and missing, loose, or sheared rivets and accomplishment of applicable corrective actions. AD 2021-24-06 was prompted by EASA Emergency AD 2021-0235-E, dated October 28, 2021 (EASA AD 2021-0235-E), issued by EASA, which is the Technical Agent for the Member States of the European Union, to correct an unsafe condition for Airbus Helicopters (formerly Eurocopter) Model EC 130 T2 helicopters, all serial numbers, on which Airbus Helicopters Modification 074581 had been embodied in production. EASA advised of a report of degradation of the rear transmission shaft bearing support on a Model EC 130 T2 helicopter and the determination that all of the attachment rivets of the transmission shaft bearing support were sheared. EASA also advised that the investigation was on-going to identify the root cause of this degradation. This condition, if not addressed, could lead to failure of the tail rotor drive shaft and subsequent loss of yaw control of the helicopter.

Actions Since AD 2021-24-06 was Issued

Since the FAA issued AD 2021-24-06, EASA has issued EASA Emergency AD 2021-0283-E, dated December 17, 2021 (EASA AD 2021-0283-E), to supersede EASA AD 2021-0235-E. EASA advises of an additional report of loose rivet heads on the outside face of the tail boom corner support. Accordingly, EASA AD 2021-0283-E retains the requirements of EASA AD 2021-0235-E and also requires repetitive visual inspections of the rivet heads on the left-hand and right-hand sides of the rear transmission shaft bearing support, revises a corrective action, and adds a reporting requirement. EASA considers its AD an interim action and states that further AD action may follow. See EASA AD 2021-0283-E for additional background information.

The FAA has also determined to revise the special flight permit limitation from AD 2021-24-06. This new AD limits special flight permits to the inspections required before the “each first flight of the day” compliance time with no passengers on board. Special flight permits are prohibited for any other actions required by this AD.

Related Service Information Under 1 CFR Part 51

EASA AD 2021-0283-E requires repetitive visual inspections of the rivets on the rear transmission upper and lower bearing support, the local structure, and the rivet heads on the left-hand and right-hand sides of the rear transmission shaft bearing support. Depending on the results, EASA AD 2021-0283-E requires contacting Airbus Helicopters to obtain approved repair instructions and accomplishing those instructions, or replacing each affected rivet. EASA AD 2021-0283-E also requires reporting inspection findings to Airbus Helicopters.

This material is reasonably available because the interested parties have access to it through their normal course of business or by the means identified in the ADDRESSES section.

Other Related Service Information

The FAA also reviewed Airbus Helicopters Emergency Alert Service Bulletin (EASB) No. 05A039, Revision 0, dated October 27, 2021, and EASB No. 05A039, Revision 1, dated December 16, 2021 (EASB 05A039 Rev 1). This service information specifies procedures for repetitive visual inspections of the rear transmission bearing support areas, including the frame and skin in the area of the bearing supports. EASB 05A039 Rev 1 adds repetitive visual inspections of the rivets heads on the left-hand and right-hand sides of the rear transmission shaft bearing support located under the Teflon tape on the tail boom.

FAA's Determination

These helicopters have been approved by EASA and are approved for operation in the United States. Pursuant to the FAA's bilateral agreement with the European Union, EASA has notified the FAA of the unsafe condition described in its AD. The FAA is issuing this AD after evaluating all pertinent information and determining that the unsafe condition exists and is likely to exist or develop on other helicopters of the same type design.

Requirements of This AD

This AD requires accomplishing the actions specified in EASA AD 2021-0283-E, described previously, as IBRed, except for any differences identified as exceptions in the regulatory text of this AD and except as discussed under “Differences Between this AD and the EASA AD.”

Explanation of Required Compliance Information

In the FAA's ongoing efforts to improve the efficiency of the AD process, the FAA developed a process to use some civil aviation authority (CAA) ADs as the primary source of information for compliance with requirements for corresponding FAA ADs. The FAA has been coordinating this process with manufacturers and CAAs. As a result, EASA AD 2021-0283-E will be IBRed in this FAA final rule. This AD would, therefore, require compliance with EASA AD 2021-0283-E in its entirety through that incorporation, except for any differences identified as exceptions in the regulatory text of this AD. Using common terms that are the same as the heading of a particular section in EASA AD 2021-0283-E does not mean that operators need comply only with that section. For example, where the AD requirement refers to “all required actions and compliance times,” compliance with this AD requirement is not limited to the section titled “Required Action(s) and Compliance Time(s)” in EASA AD 2021-0283-E. Service information referenced in EASA AD 2021-0283-E for compliance will be available at https://www.regulations.gov by searching for and locating Docket No. FAA-2021-1165.

Differences Between This AD and the EASA AD

EASA AD 2021-0283-E requires inspections after each last flight of the day (ALF), whereas this AD requires accomplishing those inspections before each first flight of the day. EASA AD 2021-0283-E specifies that certain inspections can be done by a mechanical technician, a pilot with correct training and accreditation, or a pilot-owner, whereas this AD requires those inspections be done by a qualified mechanic. Depending on certain inspection results, EASA AD 2021-0283-E specifies contacting Airbus Helicopters to obtain approved repair instructions and accomplishing those instructions, whereas this AD requires repair done in accordance with a method approved by the Manager, General Aviation & Rotorcraft Section, International Validation Branch, FAA; or EASA; or Airbus Helicopters” EASA Design Organization Approval (DOA). EASA AD 2021-0283-E requires reporting certain information to Airbus Helicopters within 30 days after each rivet replacement, whereas this AD requires reporting that information within 10 days after each rivet replacement.

Interim Action

The FAA considers this AD interim action. If final action is later identified, the FAA might consider further rulemaking then.

Justification for Immediate Adoption and Determination of the Effective Date

Section 553(b)(3)(B) of the Administrative Procedure Act (APA) (5 U.S.C. 551 et seq.) authorizes agencies to dispense with notice and comment procedures for rules when the agency, for “good cause,” finds that those procedures are “impracticable, unnecessary, or contrary to the public interest.” Under this section, an agency, upon finding good cause, may issue a final rule without providing notice and seeking comment prior to issuance. Further, section 553(d) of the APA authorizes agencies to make rules effective in less than thirty days, upon a finding of good cause.

An unsafe condition exists that requires the immediate adoption of this AD without providing an opportunity for public comments prior to adoption. The FAA has found that the risk to the flying public justifies foregoing notice and comment prior to adoption of this rule because sheared attachment rivets of the transmission shaft bearing support could lead to failure of the tail rotor drive shaft and subsequent loss of yaw control of the helicopter. In addition, the compliance time for the required actions are shorter than the time necessary for the public to comment and for publication of the final rule. Inspections of the rivets on the rear transmission shaft bearing support and of the local structure must be continued from AD 2021-24-06 before each first flight of the day and the initial inspection of the rivet heads must be accomplished within 10 hours time-in-service or seven days after the effective date of this AD, whichever occurs first. Accordingly, notice and opportunity for prior public comment are impracticable and contrary to the public interest pursuant to 5 U.S.C. 553(b)(3)(B).

In addition, the FAA finds that good cause exists pursuant to 5 U.S.C. 553(d) for making this amendment effective in less than 30 days, for the same reasons the FAA found good cause to forego notice and comment.

Comments Invited

The FAA invites you to send any written data, views, or arguments about this final rule. Send your comments to an address listed under ADDRESSES. Include “Docket No. FAA-2021-1165; Project Identifier MCAI-2021-01414-R” at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to https://www.regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Andrea Jimenez, Aerospace Engineer, COS Program Management Section, Operational Safety Branch, Compliance & Airworthiness Division, FAA, 1600 Stewart Ave., Suite 410, Westbury, NY 11590; telephone (516) 228-7330; email andrea.jimenez@faa.gov. Any commentary that the FAA receives that is not specifically designated as CBI will be placed in the public docket for this rulemaking.

Regulatory Flexibility Act

The requirements of the Regulatory Flexibility Act (RFA) do not apply when an agency finds good cause pursuant to 5 U.S.C. 553 to adopt a rule without prior notice and comment. Because the FAA has determined that it has good cause to adopt this rule without prior notice and comment, RFA analysis is not required.

Costs of Compliance

The FAA estimates that this AD affects up to 64 helicopters of U.S. Registry. Labor rates are estimated at $85 per work-hour. Based on these numbers, the FAA estimates the following costs to comply with this AD.

Inspecting the rivets and local structure takes about 0.5 work-hour for an estimated cost of about $43 per helicopter and up to $2,752 for the U.S. fleet, per inspection cycle. Removing the Teflon tape and inspecting the rivet heads takes about 0.5 work-hour for an estimated cost of about $43 per helicopter and up to $2,752 for the U.S. fleet, per inspection cycle.

Replacing a rivet takes about 0.5 work-hour and parts cost up to $20 for an estimated cost of up to $63 per rivet. The FAA has received no definitive data on which to base the cost estimates for other on-condition repairs specified in this AD. Reporting information takes about 1 work-hour for an estimated cost of $85 per instance.

Paperwork Reduction Act

A federal agency may not conduct or sponsor, and a person is not required to respond to, nor shall a person be subject to penalty for failure to comply with a collection of information subject to the requirements of the Paperwork Reduction Act unless that collection of information displays a currently valid OMB Control Number. The OMB Control Number for this information collection is 2120-0056. Public reporting for this collection of information is estimated to be approximately 1 hour per response, including the time for reviewing instructions, searching existing data sources, gathering and maintaining the data needed, and completing and reviewing the collection of information. All responses to this collection of information are mandatory. Send comments regarding this burden estimate or any other aspect of this collection of information, including suggestions for reducing this burden, to: Information Collection Clearance Officer, Federal Aviation Administration, 10101 Hillwood Parkway, Fort Worth, TX 76177-1524.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national Government and the States, or on the distribution of power and responsibilities among the various levels of government.

For the reasons discussed, I certify that this AD:

(1) Is not a “significant regulatory action” under Executive Order 12866, and

(2) Will not affect intrastate aviation in Alaska.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive 2021-24-06, Amendment 39-21827 (86 FR 66934, November 24, 2021); and

b. Adding the following new airworthiness directive:

2022-01-05 Airbus Helicopters: Amendment 39-21893; Docket No. FAA-2021-1165; Project Identifier MCAI-2021-01414-R.

(a) Effective Date

This airworthiness directive (AD) is effective January 14, 2022.

(b) Affected ADs

This AD replaces AD 2021-24-06, Amendment 39-21827 (86 FR 66934, November 24, 2021) (AD 2021-24-06).

(c) Applicability

This AD applies to Airbus Helicopters Model EC130T2 helicopters, certificated in any category, as identified in European Union Aviation Safety Agency (EASA) Emergency AD 2021-0283-E, dated December 17, 2021 (EASA AD 2021-0283-E).

(d) Subject

Joint Aircraft System Component (JASC) Code: 5300, Fuselage Structure.

(e) Unsafe Condition

This AD was prompted by a report of degradation of the rear transmission shaft bearing support and the determination that all of the attachment rivets of the transmission shaft bearing support were sheared. The FAA is issuing this AD to address sheared attachment rivets of the transmission shaft bearing support. This condition, if not addressed, could lead to failure of the tail rotor drive shaft and subsequent loss of yaw control of the helicopter.

(f) Compliance

Comply with this AD within the compliance times specified, unless already done.

(g) Requirements

Except as specified in paragraph (h) of this AD: Comply with all required actions and compliance times specified in, and in accordance with, EASA AD 2021-0283-E.

(h) Exceptions to EASA AD 2021-0283-E

(1) Where EASA AD 2021-0283-E refers to November 1, 2021 (the effective date of EASA Emergency AD 2021-0235-E, dated October 28, 2021), this AD requires using December 9, 2021 (the effective date of AD 2021-24-06).

(2) Where EASA AD 2021-0283-E refers to its effective date, this AD requires using the effective date of this AD.

(3) Where EASA AD 2021-0283-E requires compliance in terms of flight hours, this AD requires using hours time-in-service.

(4) Where paragraphs (1) and (2) of EASA AD 2021-0283-E require accomplishing inspections after each last flight of the day or “ALF,” this AD requires accomplishing those inspections before each first flight of the day.

(5) Where the service information referenced in EASA AD 2021-0283-E specifies that certain inspections can be done by a mechanical technician, a pilot with correct training and accreditation, or a pilot-owner, this AD requires that those inspections be done by a qualified mechanic.

(6) Where paragraphs (3) and (4) of EASA AD 2021-0283-E specify contacting Airbus Helicopters to obtain approved repair instructions and accomplishing those instructions, this AD requires repair done in accordance with a method approved by the Manager, General Aviation & Rotorcraft Section, International Validation Branch, FAA; or EASA; or Airbus Helicopters” EASA Design Organization Approval (DOA). If approved by the DOA, the approval must include the DOA-authorized signature.

(7) Where paragraph (6) of EASA AD 2021-0283-E requires reporting inspection results to Airbus Helicopters within 30 days after each rivet replacement, this AD requires reporting inspection results at the applicable time in paragraph (h)(7)(i) or (ii) of this AD.

(i) If the inspection was done on or after the effective date of this AD: Submit the report within 10 days after each rivet replacement.

(ii) If the inspection was done before the effective date of this AD: Submit the report within 10 days after the effective date of this AD.

(8) This AD does not mandate compliance with the “Remarks” section of EASA AD 2021-0283-E.

(i) Special Flight Permit

Special flight permits may be permitted to accomplish the actions required by paragraphs (1) and (2) of EASA AD 2021-0283-E for the before each first flight of the day compliance time only, provided that there are no passengers on board. Special flight permits are prohibited for any other actions required by this AD.

(j) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (k) of this AD. Information may be emailed to: 9-AVS-AIR-730-AMOC@faa.gov.

(2) Before using any approved AMOC, notify your appropriate principal inspector, or lacking a principal inspector, the manager of the local flight standards district office/certificate holding district office.

(k) Related Information

For more information about this AD, contact Andrea Jimenez, Aerospace Engineer, COS Program Management Section, Operational Safety Branch, Compliance & Airworthiness Division, FAA, 1600 Stewart Ave., Suite 410, Westbury, NY 11590; telephone (516) 228-7330; email andrea.jimenez@faa.gov.

(l) Material Incorporated by Reference

(1) The Director of the Federal Register approved the incorporation by reference of the service information listed in this paragraph under 5 U.S.C. 552(a) and 1 CFR part 51.

(2) You must use this service information as applicable to do the actions required by this AD, unless this AD specifies otherwise.

(i) European Union Aviation Safety Agency (EASA) Emergency AD 2021-0283-E, dated December 17, 2021.

(ii) [Reserved]

(3) For EASA AD 2021-0283-E, contact EASA, Konrad-Adenauer-Ufer 3, 50668 Cologne, Germany; telephone +49 221 8999 000; email ADs@easa.europa.eu; Internet www.easa.europa.eu. You may find the EASA material on the EASA website at https://ad.easa.europa.eu.

(4) You may view this service information at the FAA, Office of the Regional Counsel, Southwest Region, 10101 Hillwood Pkwy., Room 6N-321, Fort Worth, TX 76177. For information on the availability of this material at the FAA, call (817) 222-5110. This material may be found in the AD docket at https://www.regulations.gov by searching for and locating Docket No. FAA-2021-1165.

(5) You may view this material that is incorporated by reference at the National Archives and Records Administration (NARA). For information on the availability of this material at NARA, email fr.inspection@nara.gov, or go to: https://www.archives.gov/federal-register/cfr/ibr-locations.html.

Issued on December 22, 2021.
Lance T. Gant,
Director, Compliance & Airworthiness Division, Aircraft Certification Service.

[FR Doc. 2021-28340 Filed 12-27-21; 4:15 pm]

BILLING CODE 4910-13-P